DEPARTMENT OF HEALTH AND HUMAN SERVICES

National Institutes of Health

Office of the Director, National Institutes of Health; Amended Notice of Meeting

Notice is hereby given of a change and additional information for the meeting of the Advisory Committee to the Director, NIH, February 21, 2007, 2:30 to 4 p.m., National Institutes of Health, 9000 Rockville Pike, Bethesda, MD 20892 (Telephone Conference Call) which was published in the Federal Register on February 8, 2007, 72 FR 5982.

The meeting will be held from 2:30 p.m. to 4:30 p.m. Also, individuals interested in attending the meeting must contact Dr. Penny W. Burgoon for telephone number and pass code. The meeting is open to the public.

Dated: February 9, 2007.
Anna Snouffer,
Acting Director, Office of Federal Advisory Committee Policy.

[FR Doc. 07-763 Filed 2-20-07; 8:45 am]

BILLING CODE 4140-01-M